DEPARTMENT OF THE INTERIOR

Bureau of Indian Affairs

[212A2100DD AAK6006201 AOR3030.999900]

Indian Child Welfare Act (ICWA) Grants to Indian Organizations for Off-Reservation Indian Child and Family Service Programs

AGENCY: Office of Indian Services, Bureau of Indian Affairs, Interior.

ACTION: Solicitation of proposals; extension of deadline and updates to solicitation.

SUMMARY: The Secretary of the Interior (Secretary), through the Bureau of Indian Affairs (BIA), is soliciting grant proposals from Indian Organizations to establish and operate off-reservation Indian child and family service programs. The intent of the Indian child and family service programs are to provide services for stabilizing Indian families and Tribes, preventing the breakup of Indian families and, in particular, to ensure that the permanent removal of an Indian child from the custody of his/her Indian parent or Indian custodian shall be a last resort. This notice updates the original solicitation to extend the application deadline, raise the award ceiling, and remove a restriction on the number of applications per applicant.

DATES: Grant application packages must be submitted no later than 5 p.m. Eastern Daylight Time, August 13, 2021. The BIA will not consider proposals received after this time and date.

ADDRESSES: Grant application packages must be submitted through Grants.gov. For information on how to apply for grants in Grants.gov, see the instructions available at: https://www.grants.gov/help/html/help/Applicants/HowToApplyForGrants.htm.

FOR FURTHER INFORMATION CONTACT: If you have questions regarding the application process, please contact Jo Ann Metcalfe, Grant Officer, via email at jo.metcalfe@bia.gov or phone at (703) 390-6410.

SUPPLEMENTARY INFORMATION: On June 23, 2021, BIA published in the Federal Register a solicitation for grant proposals from Indian Organizations to establish and operate off-reservation Indian child and family service programs. See 86 FR 32970. Today's notice makes several changes to that original solicitation. Specifically, this notice:

• Extends the July 16, 2021, proposal deadline to August 13, 2021;

• Raises the award ceiling from $100,000 per budget period to $200,000 per budget period; and

• Removes the restriction on an applicant submitting more than one application or being the beneficiary of more than one grant, to allow an applicant to submit more than one application and receive more than one grant under this notice as long as the proposals are for different services offered by the applicant organization.

All remaining provisions of the original solicitation remain in effect. See 86 FR 32970 (June 23, 2021).

Bryan Newland,
Assistant Secretary—Indian Affairs.

[FR Doc. 2021-17376 Filed 8-12-21; 8:45 am]

BILLING CODE 4337-15-P